DEPARTMENT OF TRANSPORTATION

Federal Highway Administration

Environmental Impact Statement: Lee County, South Carolina; Notice of Intent

AGENCY: Federal Highway Administration, DOT.

ACTION: Notice of Intent.

SUMMARY: The FHWA is issuing this notice to advise the public that an Environmental Impact Statement will be prepared for a proposed highway project in Lee County, South Carolina.

FOR FURTHER INFORMATION CONTACT: Emily O. Lawton, Division Administrator, Federal Highway Administration, Strom Thurmond Federal Building, 1835 Assembly Street, Suite 1270, Columbia, South Carolina 29201, Telephone: (803) 765-5411, Email: emily.lawton@dot.gov.

SUPPLEMENTARY INFORMATION: The FHWA, in cooperation with the South Carolina Department of Transportation (SCDOT) and the Santee-Lynches Regional Council of Governments (SLRCOG), will prepare an Environmental Impact Statement (EIS) on a proposal to provide a truck route in the vicinity of the City of Bishopville in Lee County, South Carolina, from US 15 near I-20, southwest of the City, to the junction of US 15 and Bethune Highway (SC 341), northeast of the City. The project study area is generally defined by the area bordered by US 15/I-20 Interchange to the southwest, US 15 just north of Bethune Highway (SC 341) to the northeast, the intersection of Pinchum Sly Road (S-15) and Camden Highway (SC 34) to the northwest and the intersection of Wisacky Highway (SC 341) and Mac Stuckey Lane (local road) to the southeast.

US 15 (N. Main Street) through downtown Bishopville is currently a two-lane roadway with a raised median and on-street parking. On average, over 700 large commercial trucks travel through downtown daily. The purpose of the project is to address the existing and future truck traffic traveling through downtown Bishopville. The EIS for the proposed project will consider the No-build Alternative as well as build alternatives within the identified project study area that would meet the purpose and need of the project. The EIS will promote informed decision making in the development of a solution to address truck traffic through the downtown area. This EIS will also evaluate options which may enhance the economic development of the area.

The FHWA, SCDOT, and SLRCOG are seeking input as part of the scoping process to assist in identifying issues relative to this proposed project and potential solutions. Letters describing the proposed project and soliciting comments will be sent to appropriate Federal, State, and local agencies, and to private organizations and citizens who have previously expressed an interest in this proposal. Formal public scoping meetings will be held in Lee County. In addition, public information meetings will be held as the proposed project is developed, and a public hearing will be conducted after the approval of the draft EIS. Public notice will be given of the time and place of the meetings and hearing. The draft EIS will be available for public and agency review and comment prior to the public hearing.

To ensure that the full range of issues related to this proposed action is addressed and all significant issues are identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Dated: April 6, 2017.
Emily O. Lawton
Division Administrator, Columbia, South Carolina.

[FR Doc. 2017-07341 Filed 4-13-17; 8:45 am]

BILLING CODE 4910-22-P